DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
Energy Resource Technology, Inc., Structure Removal, SEA ES/SR 06-010A | East Cameron, Block 231, Lease OCS-G 02038, located 13 miles from the nearest Louisiana shoreline | 4/2/2007
Chevron U.S.A. Inc., Structure Removal, SEA ES/SR 07-017 | Viosca Knoll, Block 114, Lease OCS-G 16536, located 30 miles from the nearest Mississippi shoreline | 4/3/2007
Walter Oil & Gas Corporation, Structure Removal, SEA ES/SR 07-019 | Eugene Island, Block 99, Lease OCS-G 21637, located 20 miles from the nearest Louisiana shoreline | 4/4/2007
Newfield Exploration Company, Structure Removal, SEA ES/SR 07-040 | South Timbalier, Block 107, Lease OCS-G 15319, located 25 miles from the nearest Louisiana shoreline | 4/4/2007
Chevron U.S.A., Inc., Structure Removal, SEA ES/SR 07-038 | Viosca Knoll, Block 114, Lease OCS-G 16536, located 30 miles from nearest Mississippi shoreline | 4/4/2007
Merit Energy Company, Structure Removal, SEA ES/SR 06-129 | East Cameron, Block 254, Lease OCS-G 02039, located 74 miles from the nearest Louisiana shoreline | 4/12/2007
Chevron U.S.A. Inc., Structure Removal, SEA ES/SR 07-039 | Eugene Island, Block 231, Lease OCS-G 00980, located 39 miles from the nearest Louisiana shoreline | 4/13/2007
SPN Resources, LLC, Structure Removal, SEA ES/SR 07-044 | Vermilion, Block 60, Lease OCS-G 02870, located 14 miles from the nearest Louisiana shoreline | 4/13/2007
SPN Resources, LLC, Structure Removal, SEA ES/SR 07-043 | West Cameron, Block 305, Lease OCS-G 25893, located 34 miles from the nearest Louisiana shoreline | 4/13/2007
Pioneer Natural Resources USA, Inc., Structure Removal, SEA ES/SR 07-047 | Eugene Island, Block 208, Lease OCS-G 00577, located 48 miles from the nearest Louisiana shoreline | 4/16/2007
TGS-NOPEC Geophysical Company, Geological & Geophysical Exploration of Mineral Resources, SEA L07-05 | Located in the eastern Gulf of Mexico, south of Pensacola, Florida | 4/18/2007
Chevron U.S.A., Inc., Structure Removal, SEA ES/SR 06-030 | Vermilion, Block 245, Lease OCS-G 01146, located 64 miles from the nearest Louisiana shoreline | 4/18/2007
Hydro Gulf of Mexico, LLC, Structure Removal, SEA ES/SR 07-050 | West Cameron (South Addition), Block 459, Lease OCS-G 21056, located 79 miles from the nearest Louisiana shoreline | 4/18/2007
SPN Resources, LLC, Structure Removal, SEA ES/SR 07-041, 07-042, 07-045 | West Cameron, Block 280, Lease OCS-G 00911, located 64 miles from the nearest Louisiana shoreline | 4/20/2007
Chevron U.S.A. Inc, Structure Removal, SEA ES/SR 07-053 | Eugene Island, Block 214, Lease OCS-G 00977, located 48 miles to nearest Louisiana shoreline | 5/1/2007
Merit Energy Company, Structure Removal, SEA ES/SR 07-051 | East Cameron, Block 142, Lease OCS-G 16239, located 37 miles from the nearest Louisiana shoreline | 5/2/2007
PGS Multi Klient Invest AS, Geological & Geophysical Exploration of Mineral Resources, SEA L07-13 | Located in the central Gulf of Mexico, south of Fourchon, Louisiana | 5/2/2007
Multi Klient Invest AS, Geological & Geophysical Prospecting for Mineral Resources, SEA L07-14 | Located in the central Gulf of Mexico south of Fourchon, Louisiana | 5/9/2007
Western GECO, Geological & Geophysical Prospecting for Mineral Resources, SEA L07-12 | Located in the central Gulf of Mexico south of Fourchon, Louisiana | 5/9/2007
Chevron U.S.A., Inc., Structure Removal, SEA ES/SR 07-048 | South Timbalier, Block 176A, Lease OCS-G 01259, located 35 miles from the nearest Louisiana shoreline | 5/9/2007
Mariner Energy, Inc., Structure Removal, SEA ES/SR 07-058 | High Island, Block A-551, Lease OCS-G 03757, located 92 miles from the nearest Texas shoreline | 5/15/2007
Energy Resource Technology, Inc., Structure Removal, SEA ES/SR 07-054 | South Timbalier, Block 086, Lease OCS-G 00605, located 19 miles from the nearest Louisiana shoreline | 5/15/2007
SPN Resources, Structure Removal, SEA ES/SR 07-057 | West Cameron, Block 306, Lease OCS-G 23621, located 30 miles from the nearest Louisiana shoreline | 5/17/2007
BP Exploration & Production, Inc., Geological & Geophysical Prospecting for Mineral Resources, SEA L07-19 | Located in the western Gulf of Mexico south of Intracoastal City, Louisiana | 5/21/2007
Arena Offshore, LLC, Structure Removal, SEA ES/SR 07-046 | High Island, Block A-528, Lease OCS-G 13803, located 93 miles from the nearest Texas shoreline | 5/22/2007
Energy Resource Technology, Inc., Structure Removal, SEA ES/SR 07-001 | Vermilion, Block 328, Lease OCS-G 11896, located 93 miles from the nearest Louisiana shoreline | 5/22/2007
Apache Corporation, Structure Removal, SEA 06-147, 06-148A | Grand Isle, Block 20, Lease OCS-G 03596, located 9 miles from the nearest Louisiana shoreline | 5/24/2007
Energy Resource Technology, Inc., Structure Removal, SEA ES/SR 06-127A, 07-008A | East Cameron, Block 222, Lease OCS-G 02037, located 38 miles from the nearest Louisiana shoreline | 6/1/2007
Gulf of Mexico Oil & Gas Properties, LLC, Structure Removal, SEA ES/SR 06-138 | Ship Shoal, Block 148, Lease OCS-G 11983, located 24 miles from the nearest Louisiana shoreline | 6/1/2007
Chevron, U.S.A., Inc., Structure Removal, SEA ES/SR 07-059A | Mobile, Block 916, Lease OCS-G 05753, located 7 miles from the nearest Alabama shoreline | 6/13/2007
Newfield Exploration Company, Structure Removal, SEA ES/SR 07-033A, 07-035A | West Cameron, Block 146, Lease OCS-G 01996, located 21 and 25 miles from the nearest Louisiana shoreline, respectively | 6/21/2007
TDC Energy, LLC, Structure Removal, SEA ES/SR 07-063 | High Island, Block 233, Lease OCS-G 22241, located 31 miles from the nearest Texas shoreline | 6/26/2007
Hunt Petroleum (AEC), Inc., Structure Removal, SEA ES/SR 07-066 | Ship Shoal, Block 184, Lease OCS-G 22711, located 24 miles from the nearest Louisiana shoreline | 6/26/2007
TDC Energy, LLC, Structure Removal, SEA ES/SR 07-062 | Vermilion, Block 221, Lease OCS-G 04424, located 60 miles from the nearest Louisiana shoreline | 6/26/2007
Chevron, U.S.A., Inc., Structure Removal, SEA ES/SR 07-038A | Viosca Knoll, Block 114, Lease OCS-G 16536, located 30 miles from the nearest Mississippi shoreline | 6/26/2007
Chevron, U.S.A., Inc., Structure Removal, SEA ES/SR 07-017A | Viosca Knoll, Block 161, Lease OCS-G 06876, located 43 miles from the nearest Louisiana shoreline | 6/26/2007
ATP Oil & Gas Corporation, Structure Removal, SEA ES/SR 07-065 | West Cameron (South Addition), Block 492, Lease OCS-G 16195, located 41 miles from the nearest Louisiana shoreline | 6/26/2007
Newfield Exploration Company, Structure Removal, SEA ES/SR 07-034A | Ship Shoal, Block 57, Lease OCS-G 22696, located 15 miles from the nearest Louisiana shoreline | 6/27/2007
Maritech Resources, Inc., Structure Removal, SEA ES/SR 07-064 | Chandeleur, Block 25, Lease OCS-G 04494, located 35 miles from the nearest Louisiana shoreline | 6/28/2007
ATP Oil and Gas Corporation, Structure Removal, SEA ES/SR 07-060 | Vermilion, Block 318, Lease OCS-G 04427, located 86 miles from the nearest Louisiana shoreline | 6/28/2007

Persons interested in reviewing environmental documents for the proposals listed above or obtaining information about SEAs and FONSIs prepared for activities on the Gulf of Mexico OCS are encouraged to contact MMS at the address or telephone listed in the FOR FURTHER INFORMATION CONTACT section.

Dated: July 11, 2007.
Kevin Karl,
Acting Regional Director, Gulf of Mexico OCS Region.

[FR Doc. E7-16709 Filed 8-22-07; 8:45 am]

BILLING CODE 4310-MR-P